DEPARTMENT OF TRANSPORTATION

Federal Highway Administration

[FHWA Docket No. FHWA-06-24219]

Real-Time System Management Information Program

AGENCY: Federal Highway Administration (FHWA), DOT.

ACTION: Notice; Request for comments.

SUMMARY: This notice requests comments on provisions and parameters for the Real-Time System Management Information Program contained in section 1201 of the Safe, Accountable, Flexible, Efficient Transportation Equity Act: A Legacy for Users (SAFETEA-LU). This notice provides a high-level description of the program as envisioned by the FHWA, including proposed definitions for various program parameters.

DATES: Comments must be received on or before July 3, 2006.

ADDRESSES: Mail or hand deliver comments for the docket number that appears in the heading of this document to the U.S. Department of Transportation, Dockets Management Facility, Room PL-401, 400 Seventh Street, SW., Washington, DC 20590-0001, or submit electronically at http://dms.dot.gov/submit or fax comments to (202) 493-2251.

Alternatively, comments may be submitted to the Federal eRulemaking portal at http://www.regulations.gov. All comments must include the docket number that appears in the heading of this document. All comments received will be available for examination and copying at the above address from 9 a.m. to 5 p.m., e.t., Monday through Friday, except Federal holidays. Those desiring notification of receipt of comments must include a self-addressed, stamped postcard or you may print the acknowledgement page that appears after submitting comments electronically. Anyone is able to search the electronic form of all comments in any one of our dockets by the name of the individual submitting the comment (or signing the comment, if submitted on behalf of an association, business, or labor union). Anyone may review DOT's complete Privacy Act Statement in the Federal Register published on April 11, 2000 (Volume 65, Number 70, Pages 19477-78) or you may visit http://dms.dot.gov.

FOR FURTHER INFORMATION CONTACT: For questions about the program discussed herein, contact Mr. Robert Rupert, Transportation Information Management Team, FHWA Office of Operations, (202) 366-2194, or via e-mail at robert.rupert@fhwa.dot.gov. For legal questions, interpretations and counsel, please contact Ms. Lisa MacPhee, Attorney Advisor, FHWA Office of the Chief Counsel, (202) 366-1392, or via e-mail at lisa.macphee@fhwa.dot.gov. Office hours for the FHWA are from 7:45 a.m. to 4:15 p.m., e.t., Monday through Friday, except Federal holidays.

SUPPLEMENTARY INFORMATION:

Electronic Access and Filing

You may submit or retrieve comments online through the Document Management System (DMS) at http://dms.dot.gov/submit. Electronic submission and retrieval help and guidelines are available under the help section. Alternatively, Internet users may access all comments received by the DOT Docket Facility by using the universal resource locator (URL) http://dms.dot.gov. It is available 24 hours each day, 365 days each year. Please follow the instructions. An electronic copy of this document may also be downloaded by accessing the Office of the Federal Register's home page at http://www.archives.gov and from the Government Printing Office's Web page at http://www.gpoaccess.gov/nara.

Background

Section 1201 of the SAFETEA-LU (Pub. L. 109-59, 119 Stat. 1144) requires the Secretary of Transportation to establish a Real-time System Management Information Program to provide, in all States, the capability to monitor, in real-time, the traffic and travel conditions of the major highways of the United States and to share that information to improve the security of the surface transportation system, to address congestion problems, to support improved response to weather events and surface transportation incidents, and to facilitate national and regional highway traveler information. The purposes of the Real-time System Management Information Program are to:

(1) Establish, in all States, a system of basic real-time information for managing and operating the surface transportation system;

(2) Identify longer range real-time highway and transit monitoring needs and develop plans and strategies for meeting such needs; and

(3) Provide the capability and means to share that data with State and local governments and the traveling public.

In addition, section 1201(b) requires that no later than August 10, 2007, the Secretary establish data exchange formats to ensure that the data provided by highway and transit monitoring systems, including statewide incident reporting systems, can readily be exchanged across jurisdictional boundaries, facilitating nationwide availability of information. Section 1201(c) states that as State and local governments develop or update regional intelligent transportation system architectures, described in section 940.9 of title 23, Code of Federal Regulations, such governments shall explicitly address real-time highway and transit information needs and the systems needed to meet such needs, including addressing coverage, monitoring systems, data fusion and archiving, and methods of exchanging or sharing highway and transit information. States shall incorporate the data exchange formats established by the Secretary to ensure that the data provided by highway and transit monitoring systems may readily be exchanged with State and local governments and may be made available to the traveling public.

While the program description proposed in this notice relates to minimum parameters and requirements, the program should be expandable to additional highways and surface transportation facilities.

Purpose of This Notice

The purpose of this notice is to request comments and input to the proposed description of the Real-time System Management Information Program, including its outcome goals, definitions for various program parameters, and the current status of related activities in the States. These comments and input will be used in the development of program guidance for State and local governments' use in implementing systems under the Real-time System Management Information Program.

While there are questions presented on specific aspects of the Real-time System Management Information Program, comments and input may be offered on any part of this notice. In order to provide informed comments and input to some questions, it may be necessary to read the entire notice. To assist the reader in providing answers, the specific questions presented throughout the notice are summarized at the conclusion.

The primary audience for this notice is expected to be State and local departments of transportation that will develop and implement systems under the real-time system management information program. Other audiences for this notice include, but are not limited to, other local and regional transportation agencies engaged in managing and monitoring surface transportation systems in real-time, and agencies responsible for traffic incident management activities such as detection, response and clearance. Private sector firms that are involved in collecting and providing real-time system management information for surface transportation systems, either in concert with public transportation agencies or independently, may also be interested in providing input to this notice.

Real-Time System Management Information Program

Program Purpose

The purpose of the Real-time System Management Information Program is to provide the capability to monitor, in real-time, the traffic and travel conditions of the major highways of the United States and to share that information to improve surface transportation system security, address congestion, improve response to weather events and surface transportation incidents, and to facilitate national and regional highway traveler information.

Program Funding

A State may use its National Highway System, Congestion Mitigation and Air Quality Improvement program, and Surface Transportation Federal-aid program apportionments for activities related to the planning and deployment of real-time monitoring elements that advance the goals of the Real-time System Management Information Program. The FHWA has issued policy guidance, available at http://www.ops.fhwa.dot.gov/travelinfo/resources/ops_memo.htm, indicating that transportation system operations activities, such as real-time monitoring, are eligible under the major Federal-aid programs noted previously, within the requirements of the specific programs. State planning and research funds may also be used for activities relating to the planning of real-time monitoring elements.

Program Goals

By September 30, 2009, the Real-Time System Management Information Program shall:

(1) Establish, in all States, a system of basic real-time information for managing and operating the surface transportation system;

(2) Identify longer range real-time highway and transit monitoring needs and develop plans and strategies for meeting those needs; and

(3) Provide the capability and means to share the data with State and local governments and the traveling public.

Section 1201 does not specify a time frame for implementing the Real-time System Management Information Program. The FHWA proposes the implementation date of September 30, 2009, since it coincides with the expiration of the SAFETEA-LU authorization.

Questions: Does September 30, 2009 represent a reasonable time period for implementing the Real-time System Management Information Program? What potential obstacles would prevent program implementation by this date? What would be a reasonable time frame for implementing the program?

Program Outcomes

The Real-Time System Management Information Program shall result in:

(1) Publicly available traveler information Web site(s) providing access to information that is derived from the real-time information collected by the system established under the program;

(2) 511 Travel Information telephone service(s) providing to callers information that is derived from the real-time information collected by the system established under the program;

(3) Regional Intelligent Transportation System (ITS) Architectures updated to reflect the systems established under the program; and

(4) Access to the data collected by the system established under the program in an established data exchange format through standard Internet protocol (IP) communications links.

Outcomes (1) and (2) relate to commonly available methods used by public sector agencies to disseminate traffic and traveler information. Outcome (3) relates directly to a requirement in section 1201(c)(1) regarding regional ITS architectures. Outcome (4) relates to the use of common data exchange formats required by section 1201(c)(2).

Questions: Are the proposed outcomes appropriate for gauging the success of a system implemented under the program? What other measures for success would be useful?

Program Parameters

As part of describing the real-time system management information program, it is necessary to establish definitions for various parameters under the program. These parameters will define the content and context for systems developed and implemented under the program. As noted above under the program purpose, traffic and travel conditions of major highways are to be monitored in real-time. This notice proposes definitions for three principal terms used in describing the program's purpose—major highways, traffic and travel conditions, and real-time.

Major Highways

We propose that, as a minimum, major highways to be monitored by the systems implemented under the real-time system management information program include all National Highway System (NHS) routes and other limited access roadways. In metropolitan areas, major arterials with congested travel should be included in the coverage areas of systems implemented under the Real-time System Management Information Program.

The NHS includes the Interstate Highway System as well as other roads important to the nation's economy, defense, and mobility. The NHS was developed by the DOT in cooperation with the States, local officials, and metropolitan planning organizations. More detailed information about the NHS is available from the FHWA at http://www.fhwa.dot.gov/hep10/nhs/. Because of the criteria under which the NHS was developed, it provides a sound foundation for the highways to be monitored under the program. Adding major arterials in metropolitan areas helps the program address congestion as noted in the purpose of the program.

Question: Is this proposed definition of “major highways” adequate and appropriate for the purposes of the Real-time System Management Information Program?

Traffic and Travel Conditions

We propose that the basic traffic and travel conditions to be monitored by systems implemented under the Real-time System Management Information program include:

—Road or lane closures because of construction, traffic incidents, or roadway weather conditions;

—Roadway weather or other environmental conditions restricting or adversely affecting travel;

—Extent and degree of congested conditions, i.e., length of roadway experiencing stop-and-go or very slow (e.g., prevailing speed of traffic less than half of speed limit) traffic;

—In metropolitan areas that experience recurring traffic congestion, travel times or speeds on limited access roadways; and

—In metropolitan areas that experience recurring traffic congestion, disruptions to public transportation services and facilities.

These basic traffic and travel conditions are based on work conducted by the National 511 Deployment Coalition (Coalition) in developing its guidelines for implementing 511 travel information telephone services. The Coalition guidelines are available from the 511 Deployment Coalition at http://www.deploy511.org. In general, the minimum conditions are intended to capture events and occurrences that reduce the capacity of highways (lane closures and adverse weather conditions) or present unsafe travel conditions (congestion). In congested metropolitan areas, the minimum conditions are enhanced through the addition of travel times and transit service disruptions as a way of capturing system performance.

Question: How well do the proposed traffic and travel conditions represent reasonable and appropriate basic requirements for the Real-time System Management Information Program?

Real-Time

Systems implemented under the real-time system management information program will monitor and reflect current traffic and travel conditions according to the following minimum criteria:

—Construction activities affecting travel conditions, such as implementing or removing lane closures, will be available as program information within 30 minutes of the change, with changes to be available within 15 minutes in metropolitan areas with frequent or recurring traffic congestion;

—Roadway or lane blocking traffic incident information will be available as program information within 15 minutes of the incident being detected or reported and verified;

—Roadway weather conditions are updated as program information no less frequently than 30 minutes;

—Traffic congestion information will be updated as program information no less frequently than 15 minutes; and

—Travel time information, when reported and available as program information, will reflect travel conditions occurring no older than 10 minutes.

—Public transportation service disruptions, when reported, will be updated as program information no less frequently than 30 minutes.

Since the Real-time System Management Information Program applies to all States, these minimum criteria reflect systems that employ manual entry of information. Systems that use more automated or integrated information entry processes may be able to reflect changes in conditions virtually immediately. These criteria are intended to present aggressive but realistic time frames for reporting and entering information including manual entry, remotely polled sensor stations, or calculation of values. The proposed criteria also consider the usefulness of the information to travelers, hence the decreased amount of time for recording construction activities in congested metropolitan areas.

Question: How well do the proposed criteria for determining real-time information represent reasonable and appropriate minimums for systems implemented under the Real-time System Management Information Program?

Information Quality

The quality of the real-time system management information depends on the techniques and technologies used to record the information. The Real-time System Management Information Program will not specify technologies or methods to be used to collect information; however, levels of quality for general attributes may be provided. The following proposed levels of quality for two attributes are based on the report “Closing the Data Gap: Guidelines for Quality Advanced Traveler Information System (ATIS) Data” that is available from the DOT at http://www.itsdocs.fhwa.dot.gov/JPODOCS/REPT_MIS/13580.html (Intelligent Transportation Society of America, ATIS Committee; September 2000).

Accuracy

Accuracy indicates how closely the recorded information matches the actual conditions. All sensors and data collection systems are subject to inaccuracies from situations such as physical obstructions, weather conditions, and radio frequency interference. The more accurate the data are, the higher the quality of information recorded by the system. This attribute is typically characterized using percentages, either as a percentage of accuracy or as an error percentage. For example, a system may be characterized as being 90 percent accurate or having a 10 percent error rate. This attribute is used to describe the average performance of the sensors or data collection system. The FHWA is considering proposing that systems implemented under the real-time system management information program are to be 85 percent accurate at a minimum, or have a maximum error rate of 15 percent.

Availability

Availability indicates how much of the data designed to be collected is made available. While sensors and data collection systems are usually designed to operate continuously, inevitably a user of the data will lose access from time to time. This attribute describes the average probability that a given data element will be available for use from a particular sensor or data collection system. For example, if a sensor records average speeds at a specific point over five minute intervals, 12 data points are generated each hour. Over the course of a year, 105,120 data points should be recorded; however, if 2,100 data points were not available for use over the course of the year, the availability would be 98 percent. This attribute essentially combines factors such as sensor or system reliability, maintenance responsiveness, and fault tolerance into a single measure related to data output. The better the traffic sensor data collection system is designed, operated and maintained, the higher the availability. The FHWA is considering proposing that systems implemented under the Real-time System Management Information Program are to have 90 percent availability at a minimum.

Question: How well do these proposed attributes present reasonable minimum requirements for systems implemented under the Real-time System Management Information Program? Are any other minimum requirements necessary?

Data Exchange Formats

Section 1201(b) requires that within two years of the date of enactment of SAFETEA-LU, the Secretary of Transportation is to establish data exchange formats to ensure that the data provided by highway and transit monitoring systems, including statewide incident reporting systems, can be readily exchanged to facilitate nationwide availability of information. States shall also incorporate these data exchange formats in the systems they implement to support the Real-time System Management Information Program. If after development, the data exchange formats are officially adopted through rulemaking by the DOT, part 940 of title 23, Code of Federal Regulations, requires in section 940.11(f) that all ITS projects funded with highway trust funds shall use the applicable DOT-adopted ITS standards.

Because of the array of available technical standards for data communication, the exchange formats may not require additional standards to be developed. Standards developed for center-to-center communications and for traveler information will form the basis of the exchange formats. The FHWA will assess the standards to identify the elements most important for information to be exchanged under the program. Among the standards to be assessed and analyzed are:

—Standard for Traffic Incident Management Message Sets for Use by Emergency Management Centers (EMC), Institute of Electrical and Electronics Engineers (IEEE) P1512.1;

—Standard for Common Incident Management Message Sets (IMMS) for use by EMCs, IEEE P1512-2000;

—Standard for Public Safety IMMS for use by EMCs, IEEE P1512.2;

—Standard for Hazardous Material IMMS for use by EMCs, IEEE P1512.3;

—Standard for Functional Level Traffic Management Data Dictionary, Institute of Transportation Engineers (ITE) TM 1.03;

—Message Sets for External Transportation Management Center Communication (MS/ETMCC), ITE TM 2.01;

—Transit Communication Interface Protocol (TCIP) Traffic Management Business Area Standard, ITE TS 3.TM;

—National Transportation Communications for ITS Protocol (NTCIP) Center-to-Center Naming Convention Specification, NTCIP 1104;

—NTCIP Object Definitions for Environmental Sensor Stations (ESS), NTCIP 1204;

—NTCIP Weather Reports Message Set for ESS, NTCIP 1301;

—TCIP—Standard on Common Public Transportation Objects, NTCIP 1401;

—TCIP—Standard on Incident Management Objects, NTCIP 1402;

—TCIP—Standard on Passenger Information Objects, NTCIP 1403;

—TCIP—Standard on Scheduling/Runcutting Objects, NTCIP 1404;

—TCIP—Standard on Spatial Representation Objects, NTCIP 1405;

—NTCIP Transport Profile for Internet, NTCIP 2202;

—NTCIP Application Profile for File Transfer Protocol, NTCIP 2303;

—NTCIP eXtensible Markup Language (XML) in ITS Center-to-Center Communications, NTCIP 2306;

—Location referencing Message Specification, Society of Automotive Engineers (SAE) J2266;

—Data Dictionary for Advanced Traveler Information System (ATIS), SAE J2353;

—Message Set for ATIS, SAE J2354;

—National Location Referencing Information Report, SAE J2374;

—Rules for Standardizing Street Names and Route Identification, SAE J2529; and

—Messages for Handling Strings and Look-Up Tables in ATIS Standards, SAE J2540.

More information about these standards is available at http://www.standards.its.dot.gov/.

Existing Reporting Capabilities

While all States collect various data periodically to support national reporting requirements, such as the Highway Performance Monitoring System, a number of States currently have systems that provide information that, at some level, is comparable to that proposed for the Real-time System Management Information Program. As of March 2006, there are 28 systems that provide travel information through “511” telephone services that are operating in 24 States. Virtually every State department of transportation operates an Internet Web site that offers some highway condition information to the public. There are pooled fund efforts among States that have developed highway condition and reporting systems. Some State departments of transportation that have developed statewide reporting systems to serve as inventories or databases to keep track of the agency's roadway construction and maintenance activities.

The Real-time System Management Information Program will be developed to take advantage of the existing reporting and information sharing capabilities, and build upon them where applicable. In addition, the Real-time System Management Information Program should complement current transportation performance reporting systems by making it easier to gather or enhance required information. To ensure that the most current status information is used, responders are requested to answer the following questions:

Questions

What system is currently employed by the State department of transportation or other public agency to inventory highway conditions such as construction and maintenance activities, traffic incidents, traffic flow, or other real-time performance of the roadways?

What types of information are recorded by the reporting system, i.e., what traffic or travel conditions are recorded?

How is the reported information provided to the public?

How broadly is the reported information shared with neighboring jurisdictions or other agencies?

What data or communications standards are used by the reporting systems, either for recording information or for sharing information?

Resources Available from FHWA

The FHWA is committed to helping achieve the goals and outcomes of the Real-time System Management Information Program. The FHWA offers a number of resources to assist States as they consider, develop and deploy real-time monitoring systems:

—FHWA Division Offices, located in each State, provide assistance in developing and approving projects;

—The FHWA Resource Center provides technical assistance for systems architecture, standards, integration and system operations to States, metropolitan planning organizations, and local jurisdictions;

—The Peer-to-Peer Program offers various ways for States and others to exchange knowledge and provide assistance on specific aspects of real-time system information; and

—FHWA Web sites for Traveler Information (http://www.ops.fhwa.dot.gov/travelinfo/), ITS Architecture (http://www.ops.fhwa.dot.gov/its_arch_imp/), and Standards Implementation (http://www.ops.fhwa.dot.gov/int_its_deployment/standards_imp/standards.htm) provide information relevant to real-time system management information.

Summary of Questions

A summary of the specific questions posed in this notice follows. Responders are reminded that comments and input may be offered on any part of this notice.

—Does September 30, 2009, represent a reasonable time period for implementing the real-time system management information program? What potential obstacles would prevent program implementation by this date? What would be a reasonable time frame for implementing the program?

—Are the proposed outcomes—traveler information Web sites, 511 traveler information telephone services, updated regional ITS architectures, and access to data over the Internet—appropriate for gauging the success of a system implemented under the program? What other measures for success would be useful?

—Is the proposed definition of “major highways” adequate and appropriate for the purposes of the Real-time System Management Information Program?

—How well do the proposed traffic and travel conditions represent reasonable and appropriate basic requirements for the Real-time System Management Information Program?

—How well do the proposed criteria for determining real-time information represent reasonable and appropriate minimums for systems implemented under the Real-time System Management Information Program?

—How well do the proposed quality attributes of the information present reasonable minimum requirements for systems implemented under the Real-time System Management Information Program?

—What system is currently employed by the State department of transportation or other public agency to inventory highway conditions such as construction and maintenance activities, traffic incidents, traffic flow, or other real-time performance of the roadways?

—What types of information are recorded by the reporting system, i.e., what traffic or travel conditions are recorded?

—How is the reported information provided to the public?

—How broadly is the reported information shared with neighboring jurisdictions or other agencies?

—What data or communications standards are used by the reporting systems, either for recording information or for sharing information?

Issued on: April 28, 2006.
Frederick G. Wright, Jr.,
Executive Director, Federal Highway Administration.

[FR Doc. E6-6741 Filed 5-3-06; 8:45 am]

BILLING CODE 4910-22-P